DEPARTMENT OF HEALTH AND HUMAN SERVICES

Centers for Disease Control and Prevention

[30-Day-13-0743]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Assessment and Monitoring of Breastfeeding-Related Maternity Care Practices in Intra-partum Care Facilities in the United States and Territories (OMB No. 0920-0743, exp. 12/31/2011)—Reinstatement with Changes—National Center for Chronic Disease Prevention and Health Promotion (NCCDPHP), Centers for Disease Control and Prevention (CDC).

Background and Brief Description

Health professionals recommend at least 12 months of breastfeeding, and Healthy People 2020 establishes specific national breastfeeding goals. In addition to increasing overall rates, a significant public health priority in the United States (U.S.) is to reduce variation in breastfeeding rates across population subgroups. Because hospital practices strongly influence infant feeding outcomes, the health care system is one of the most important and effective settings for improving breastfeeding initiation rates.

In 2007, CDC conducted the first national survey of Maternity Practices in Infant Nutrition and Care, known as the mPINC Survey. The survey inquired about care practices and support for breastfeeding throughout the maternity stay as well as staff training and maternity care practices. Following the collection of baseline information in 2007, the mPINC survey was conducted again in 2009 and 2011.

CDC proposes to repeat the mPINC in 2013 and 2015, with changes. In previous cycles of data collection, two versions of the mPINC survey instrument were used: one for hospitals and one for birth centers. In 2013 and 2015, one instrument will be used for both hospitals and birth centers. There are no changes to survey content, other than the minor changes needed to produce a single streamlined instrument for all facilities. There is no change to the estimated burden per response (30 minutes). Similarly, in 2013 and 2015 screening for eligible facilities will be conducted with a single screening instrument.

Facilities will identified by using information obtained through the American Association of Birth Centers (AABC) and the American Hospital Association (AHA) Annual Survey of Hospitals. Facilities that will be invited to participate in the survey include those that participated in previous iterations and those that were invited but did not participate in the previous iterations, as well as those that have become eligible since the most recent mPINC survey. All birth centers and hospitals with ≥1 registered maternity bed will be screened for eligibility via a brief phone call to assess their eligibility, identify additional locations, and identify the appropriate point of contact.

As with the initial surveys, a major goal of the 2013 and 2015 follow-up surveys is to be fully responsive to facilities' needs for information and technical assistance. CDC will provide direct feedback to respondents in a customized benchmark report of their results and identify and document progress since 2007 on their quality improvement efforts. CDC will use information from the mPINC surveys to identify, document, and share information related to incremental changes in practices and care processes over time at the hospital, state, and national levels. Data will be also used by researchers to better understand the relationships between hospital characteristics, maternity-care practices, state level factors, and breastfeeding initiation and continuation rates.

OMB approval is requested for three years. On an annualized basis, CDC estimates initial contact with 2,570 facilities that will complete Part A of the Screening Telephone Call, and 2,200 respondents that will also complete Part B of the Screening Telephone Call. CDC estimates receipt of completed surveys from 1,825 facilities.

Participation in the survey is voluntary, and responses may be submitted by mail or through a Web-based system. There are no costs to respondents other than their time. The total estimated annualized burden hours are 1,103.

Estimated Annualized Burden Hours
Type of respondent | Form name |  | Number of respondents | Number of responses per respondent | Average burden per response (in hours)
Maternity facility | Screening telephone call script | Part A | 2,570 | 1 | 1/60
|  | Part B | 2,200 | 1 | 4/60
| mPINC Facility Survey |  | 1,825 | 1 | 30/60

Leroy A. Richardson,
Chief, Information Collection Review Office, Office of Scientific Integrity, Office of the Associate Director for Science, Office of the Director, Centers for Disease Control and Prevention.

[FR Doc. 2013-19675 Filed 8-13-13; 8:45 am]

BILLING CODE 4163-18-P